OVERSEAS PRIVATE INVESTMENT CORPORATION

Sunshine Act; Notice of Public Hearing

June 10, 2010.

OPIC's Sunshine Act notice of its Public Hearing in Conjunction with each Board meeting was published in the Federal Register (Volume 75, Number 95, Page 27843) on May 18, 2010. No requests were received to provide testimony or submit written statements for the record; therefore, OPIC's public hearing scheduled for 2 PM, June 10, 2010 in conjunction with OPIC's June 24, 2010 Board of Directors meeting has been cancelled.

For Further Information Contact: Information on the hearing cancellation may be obtained from Connie M. Downs at (202) 336-8438, via facsimile at (202) 218-0136, or via e-mail at Connie.Downs@opic.gov.

Dated: June 7, 2010.
Connie M. Downs,
OPIC Corporate Secretary.

[FR Doc. 2010-13927 Filed 6-7-10; 4:15 pm]

BILLING CODE 3210-01-P